DEPARTMENT OF COMMERCE

International Trade Administration

[A-831-804, A-351-856, A-523-815, A-821-828, A-489-844]

Certain Aluminum Foil From the Republic of Armenia, Brazil, the Sultanate of Oman, the Russian Federation, and the Republic of Turkey: Postponement of Preliminary Determinations in the Less-Than-Fair-Value Investigations

AGENCY: Enforcement and Compliance, International Trade Administration, Department of Commerce.

DATES: Applicable February 17, 2021.

FOR FURTHER INFORMATION CONTACT: Margaret Collins at (202) 482-6250 (the Republic of Armenia (Armenia)); George McMahon at (202) 482-1167 (Brazil); Benjamin Smith at (202) 482-2181 (the Sultanate of Oman (Oman)); Mike Heaney at (202) 482-4475 (the Russian Federation (Russia)); Bryan Hansen at (202) 482-3683 (the Republic of Turkey (Turkey)); AD/CVD Operations, Enforcement and Compliance, International Trade Administration, U.S. Department of Commerce, 1401 Constitution Avenue NW, Washington, DC 20230.

SUPPLEMENTARY INFORMATION:

Background

On October 19, 2020, the Department of Commerce (Commerce) initiated less-than-fair-value (LTFV) investigations of imports of certain aluminum foil from Armenia, Brazil, Oman, Russia, and Turkey.¹ Currently, the preliminary determinations are due no later than March 8, 2021.

¹ See Certain Aluminum Foil from the Republic of Armenia, Brazil, the Sultanate of Oman, the Russian Federation, and the Republic of Turkey: Initiation of Less-Than-Fair-Value Investigations, 85 FR 67711 (October 26, 2020).

Postponement of Preliminary Determinations

Section 733(b)(1)(A) of the Tariff Act of 1930, as amended (the Act), requires Commerce to issue the preliminary determination in an LTFV investigation within 140 days of the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 4, 2021, the Aluminum Association Trade Enforcement Working Group ² (the petitioners) submitted a timely request that Commerce postpone the preliminary determinations in these LTFV investigations.³ The petitioners stated that they request postponement due to concerns that Commerce will need more time to issue supplemental questionnaires to address deficiencies in the respondents' initial questionnaire responses. Under the current timeline, the petitioners believe that Commerce will not have complete responses and sufficient information to issue these preliminary determinations.⁴

² The individual members of the Aluminum Association Trade Enforcement Working Group are: Granges Americas Inc.; JW Aluminum Company; and Novelis Corporation.

³ See Petitioners' Letter, “Certain Aluminum Foil from Armenia, Brazil, the Sultanate of Oman, the Russian Federation, and the Republic of Turkey: Petitioners' Request for Postponement of Preliminary Antidumping Determinations,” dated February 4, 2021.

⁴ Id.

For the reasons stated above, and because there are no compelling reasons to deny the request, Commerce, in accordance with section 733(c)(1)(A) of the Act and 19 CFR 351.205(e), is postponing the deadline for these preliminary determinations by 50 days (i.e., 190 days after the date on which these investigations were initiated). As a result, Commerce will issue its preliminary determinations no later than April 27, 2021. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: February 10, 2021.
Christian Marsh,
Acting Assistant Secretary for Enforcement and Compliance.

[FR Doc. 2021-03152 Filed 2-16-21; 8:45 am]

BILLING CODE 3510-DS-P